DEPARTMENT OF THE INTERIOR

Fish and Wildlife Service

Federal Grant Use by the Ohio Department of Natural Resources

AGENCY: Fish and Wildlife Service, Interior.

ACTION: Notice of intent.

SUMMARY: This notice advises the public that the U.S. Fish and Wildlife Service (Service) intends to gather information to conduct a 30-day comment period to solicit public response for a National Environmental Policy Act (NEPA) decision on approval of two federal grant proposal renewals. The action to be evaluated is the continuation of two grants funded under the comprehensive management plan (CMP) option and the cumulative effects of activities that are funded under the grants. The grants are awarded to the Ohio Department of Natural Resources (ODNR), Division of Wildlife (DOW).

The Service's categorical exclusion [516 DM 6, Appendix 1, Section 1.4.E(1)] applies to this action; however, the Service is seeking public comments in this instance in order to determine whether any exceptions to the categorical exclusion (516 DM 2, Appendix 2) may apply, especially for controversial environmental effects (2.3) or cumulative effects (2.5), thereby necessitating the development of an Environmental Assessment (EA). Primary focus for this review is to address statewide cumulative and secondary effects of activities conducted by the ODNR, DOW that are funded under Federal Aid in Wildlife Restoration Act (WR) Grant Number W-134-P and Federal Aid in Sport Fish Restoration Act (SFR) Grant Number F-69-P and administered by the Region 3 Federal Aid Division of the U.S. Fish and Wildlife Service. A secondary focus is to address the processes used by the ODNR, DOW to select and complete those activities. Each individual project, or group of projects, will continue to receive site specific NEPA review when it is submitted for funding. Therefore the scope of this review is broad and directed at impacts that may not be detected with individual projects along with consideration of the overall planning system utilized by Ohio. Comments on site specific projects are not within the scope of this review although comments regarding the affects of types of projects would be appropriate.

DATES: Written comments should be received on or before May 14, 2003.

Public Involvement: The public is invited to participate in the comment process. Locations for supporting reference information are provided under SUPPLEMENTARY INFORMATION. Written comments should be received within 30 days from the date of publication of this Notice of Intent. All comments received from individuals become part of the official public record. Requests for such comments will be handled in accordance with the Freedom of Information Act and the Council on Environmental Quality's NEPA regulations [40 CFR 1506.6(f)]. Our practice is to make comments, including names and home addresses of respondents, available for public review during regular business hours. Individual respondents may request that we withhold their home address from the record, which we will honor to the extent allowable by law. If a respondent wishes us to withhold his/her name and/or address, this must be stated prominently at the beginning of the comment.

ADDRESSES: Comments should be addressed to: Michael Vanderford or Jon Parker, U.S. Fish and Wildlife Service, Division of Federal Aid, 1 Federal Drive, Fort Snelling, MN 55111-4056. Electronic mail comments may also be submitted within the comment period to: ohdnrgrants@fws.gov.

FOR FURTHER INFORMATION CONTACT: Jon Parker (Wildlife Restoration, Wildlife Conservation and Restoration) or Michael Vanderford (Sport Fish Restoration). U.S. Fish And Wildlife Service, Federal Aid Division, 1 Federal Drive, Fort Snelling, MN 5511; telephone: 612/713-5130.

SUPPLEMENTARY INFORMATION: These grants are subject to the requirements of the Sport Fish and Wildlife Restoration Acts, federal regulations (50 CFR part 80 and 43 CFR part 12) and the Service's Federal Aid Handbook. Administration of these grants uses a management system identified in the Grant Proposal consistent with a plan for fish, wildlife and habitat. This plan provides program direction in Ohio and types of activities that may constitute projects subject to an annual application for funds process. The comprehensive management system is described in the Grant Proposal which includes a description of the ODNR, DOW strategic planning process, its operational planning process and its control/evaluation process. Copies of the Grant Proposals for fish management and wildlife management are available at: http://midwest.fws.gov/NEPA. Hard copies of the supporting Strategic Plan, Tactical Plans, and the Comprehensive Management System (CMS) Handbook and addendum are available for review at: Ohio Division of Wildlife, Department of Natural Resources, Public Lobby Reception Desk, Building G, 1840 Belcher Drive, Columbus, Ohio (near Morse Road and Cleveland Avenue). It would be helpful if persons wishing to review these documents would contact Verdie Abel at 614/265-7020 ahead of time.

The Service may choose to analyze the impacts of the two federal grants separately because their intended purposes are different. The Service is using this notification as it considers approving continuation of the CMP option for the next six years. The intent of the notice is to obtain suggestions and additional information from other agencies and the public on the scope of issues to be considered. Comments and participation in this comment process are solicited.

The ODNR, DOW has utilized SFR and WR funds since Congress enacted the programs in 1950 and 1937, respectively. This will be the third year that DOW will use Wildlife Conservation and Restoration (WCR) funds which Congress approved for a one-year period during the federal fiscal year beginning October 1, 2000. The public is requested to inform the Service of concerns regarding the ODNR, DOW management systems, their administration of the comprehensive management system grants in Ohio and the cumulative effects of activities funded under these federal grants.

The ODNR, DOW has administered its SFR and WR grant programs using the CMP option for the past 11 years. ODNR, DOW began administering the WCR grant program using the CMP option July 1, 2001. During the past 11 years, the ODNR, DOW conducted numerous public information and input processes, as well as Service review regarding its programs, including: The development and periodic revision of a Strategic Plan; development of tactical plans for fish, wildlife and habitat for Ohio; use of biennial work planning processes; program and management reviews; financial audits and periodic field reviews conducted jointly by ODNR, DOW and Service staff regarding implementation of the CMP.

Some projects that will be subject to NEPA review as part of the annual grant process will be conducted on lands that may be eligible for listing on the National Register of Historic Places. The National Historic Preservation Act and other laws require these properties and resources be identified and considered in project planning. The public is requested to inform the FWS of concerns about archeological sites, buildings and structures, historic events, sacred and traditional areas, and other historic preservation concerns.

Authority: 42 U.S.C. 4321-4347.

TJ Miller,
Acting Assistant Regional Director, Ecological Services, Region 3, Fort Snelling, MN.

[FR Doc. 03-8994 Filed 4-11-03; 8:45 am]

BILLING CODE 4310-55-P